DEPARTMENT OF THE INTERIOR

National Park Service

Notice of Availability of a Supplemental Draft Environmental Impact Statement

AGENCY: National Park Service, Interior.

ACTION: Notice of availability of a Supplemental Draft Environmental Impact Statement for the General Management Plan for Big South Fork National River and Recreation Area, Kentucky and Tennessee.

SUMMARY: Pursuant to section 102(2)(c) of the National Environmental Policy Act of 1969 and National Park Service policy in Director's Order Number 2 (Park Planning) and Director's Order Number 12 (Conservation Planning, Environmental Impact Analysis, and Decision-making) the National Park Service announces the availability of a Supplemental Draft Environmental Impact Statement and General Management Plan (SDEIS/GMP) for Big South Fork National River and Recreation Area (NRRA), Kentucky and Tennessee.

The SDEIS/GMP analyzes three action alternatives and one no-action alternative for guiding management of the park over the next 15 to 20 years. The three action alternatives incorporate various management prescriptions to ensure resource protection and quality visitor experience conditions. The no-action alternative would continue current management practices and policies.

DATES: The comment period will extend until April 30, 2003. A series of public meetings will be held in surrounding communities during this period. Dates, times, and locations of the meetings will be announced in the local media, posted on the internet at http://www.nps.gov/biso/gmp, and the park may be contacted for this information. Representatives of the National Park Service will be available at the public meetings to receive comments, concerns, and other input from the public related to the SDEIS/GMP.

ADDRESSES: Limited numbers of copies of the SDEIS/GMP are available from the Superintendent, Big South Fork NRRA, 4564 Leatherwood Ford Road, Oneida, TN 37841. Public reading copies of the SDEIS/GMP will also be available for review at the following locations, including others to be announced:

• Office of the Superintendent, Big South Fork NRRA, 4564 Leatherwood Ford Road, Oneida, TN 37841. Telephone: (423) 569-9778.

• Division of Planning and Compliance, Southeast Regional Office, National Park Service, Attention: John Fischer, 100 Alabama Street, 1924 Building, Atlanta, Georgia 30303. Telephone: (404) 562-3124, ext. 607.

• An electronic copy of the SDEIS/GMP is available for download in .pdf format on the internet at http://www.nps.gov/biso/gmp.

FOR FURTHER INFORMATION CONTACT: Superintendent, Big South Fork NRRA, 4564 Leatherwood Ford Road, Oneida, TN 37841. Telephone: (423) 562-9778.

SUPPLEMENTARY INFORMATION: This Supplemental Draft Environmental Impact Statement/General Management Plan is being distributed for public review based on comments received on the initial draft document. Those comments indicated that additional information was needed to allow for more meaningful public participation in the area's management planning. This led to more data collection and the development of a new alternative.

This plan examines and reaffirms Congress' purpose and direction for the National Area. It identifies the management requirements placed on the National Area as a unit of the national park system. The plan then considers different alternatives for managing the National Area along with an environmental evaluation of the alternatives. A no-action alternative is included for comparison. Development sites, roads, and trails within the National Area are examined.

In addition to Alternatives A and B identified in the previous draft, a new, more detailed alternative is presented in this supplemental document. This new alternative, Alternative D, is the NPS' preferred alternative. More localized areas are identified for different zone types, with particularized management prescriptions. A greater degree of guidance for resource management and visitor use is achieved. This is augmented with information, proposals, and alternatives for development of facilities, including roads and trails. Many existing facilities are reaffirmed as appropriate for inclusion in an official system; a number of new facilities are proposed to fill gaps and to provide for areas more recently acquired; and some existing facilities would be removed. Overall, the scale of development and types of facilities proposed over the planning horizon of 15 to 20 years would remain essentially the same. Special provisions are proposed for hunting access and for off-road vehicles. All routes proposed for use by off-road vehicles would be designated, according to Executive Order.

Special projects including management of oil and gas activities, reclamation of contaminated mine drainage, native species management, cultural landscape identification and management, and increased monitoring would be continued or initiated. Interpretation of National Area resources would be increased and more focused through completion of comprehensive interpretive planning.

Dated: November 15, 2002.
Patricia A. Hooks,
Acting Regional Director, Southeast Region.

[FR Doc. 03-2086 Filed 1-29-03; 8:45 am]

BILLING CODE 4310-70-P